DEPARTMENT OF ENERGY

Federal Energy Regulatory Commission

Notice of Commission Staff Attendance

The Federal Energy Regulatory Commission hereby gives notice that members of the Commission's staff may attend the following meeting of the California Independent System Operator Corporation:

Review of Reliability Must-Run and Capacity Procurement Mechanism

January 30, 2018, 10:00 a.m.-3:00 p.m. (PST)

The above-referenced meeting will be held at: California Independent System Operator Corporation, 250 Outcropping Way, Folsom, CA 95630.

The above-referenced meeting is open to stakeholders.

Further information may be found at www.caiso.com.

The discussions at the meeting described above may address matters at issue in the following proceedings:

Docket No. ER18-230, Gilroy Energy Center, LLC

Docket No. ER18-240, Metcalf Energy Center, LLC

Docket No. ER18-641, California Independent System Operator, Corporation

For more information, contact: Saeed Farrokhpay, Office of Energy Market Regulation, Federal Energy Regulatory Commission, (916) 294-0322, saeed.farrokhpay@ferc.gov.

Dated: January 23, 2018.
Kimberly D. Bose,
Secretary.

[FR Doc. 2018-01794 Filed 1-29-18; 8:45 am]

BILLING CODE 6717-01-P